SOCIAL SECURITY ADMINISTRATION

[Docket No: SSA-2016-0047]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: 202-395-6974, Email address: OIRA_Submission@omb.eop.gov.

(SSA), Social Security Administration, OLCA, Attn: Reports Clearance Director, 3100 West High Rise, 6401 Security Blvd., Baltimore, MD 21235, Fax: 410-966-2830, Email address: OR.Reports.Clearance@ssa.gov.

Or you may submit your comments online through www.regulations.gov, referencing Docket ID Number [SSA-2016-0047].

I. The information collections below are pending at SSA. SSA will submit them to OMB within 60 days from the date of this notice. To be sure we consider your comments, we must receive them no later than December 2, 2016. Individuals can obtain copies of the collection instruments by writing to the above email address.

1. Statement of Agricultural Employer (Year Prior to 1988; and 1988 and later)—20 CFR 404.702, 404.802, 404.1056—0960-0036. If agricultural workers believe their employers (1) did not report their wages, or (2) reported incorrect wage amounts, SSA will assist them in resolving this issue. Specifically, SSA will send Forms SSA-1002-F3 or SSA-1003-F3 to the agricultural employers to collect evidence of wages paid. The respondents are agricultural employers whose workers request wage verification or correction for their earnings records.

Type of Request: Revision of an OMB-approved information collection.

Modality of completion | Number of respondents | Frequency of response | Average burden per response (minutes) | Estimated total annual burden (hours)
SSA-1002 | 7,500 | 1 | 30 | 3,750
SSA-1003 | 25,000 | 1 | 30 | 12,500
Total | 32,500 |  |  | 16,250

2. Continuing Disability Review Report—20 CFR 404.1589, 416.989—0960-0072. Sections 221(i), 1614(a)(3)(H)(ii)(I) and 1633(c)(1) of the Social Security Act (Act) requires SSA to periodically review the cases of individuals who receive benefits under Title II or Title XVI, based on disability, to determine if disability continues. SSA uses Form SSA-454, Continuing Disability Review Report, to complete the review for continued disability. SSA considers adults eligible for payment if they continue to be unable to do substantial gainful activity because of their impairments; and we consider Title XVI children eligible for payment if they have marked and severe functional limitations due to their impairments. SSA also uses Form SSA-454 to obtain information on sources of medical treatment, participation in vocational rehabilitation programs (if any); attempts to work (if any); and the opinions of individuals regarding whether their conditions improved. The respondents are Title II or Title XVI disability recipients or their representatives.

Type of Request: Revision of an OMB-approved information collection.

Modality of completion | Number of respondents | Frequency of response | Average burden per response (minutes) | Estimated total annual burden (hours)
SSA-454-BK (Paper version) | 270,500 | 1 | 60 | 270,500
Electronic Disability Collect System | 270,500 | 1 | 60 | 270,500
Totals | 541,000 |  |  | 541,000

3. Request for Reconsideration—20 CFR 404.907-404.921, 416.1407-416.1421, 408.1009, and 418.1325—0960-0760. The Consent Based Social Security Number Verification (CBSV) process is a fee-based automated Social Security number (SSN) verification service available to private businesses and other requesting parties. To use the system, private businesses and requesting parties must register with SSA and obtain valid consent from SSN holders prior to verification. We collect the information to verify if the submitted name and SSN match the information in SSA records. After completing a registration process and paying the fee, the requesting party can use the CBSV process to submit a file containing the names of number holders who gave valid consent, along with each number holder's accompanying SSN and date of birth (if available) to obtain real-time results using a web service application or SSA's Business Services Online (BSO) application. SSA matches the information against the SSA master file of SSNs, using SSN, name, date of birth, and gender code (if available). The requesting party retrieves the results file from SSA, which indicates only a match or no match for each SSN submitted.

Under the CBSV process, the requesting party does not submit the consent forms of the number holders to SSA. SSA requires each requesting party to retain a valid consent form for each SSN verification request. The requesting party retains the consent forms in either electronic or paper format.

SSA added a strong audit component to ensure the integrity of the CBSV process. At the discretion of the agency, we require audits (called “compliance reviews”) with the requesting party paying all audit costs. Independent certified public accounts (CPAs) conduct these reviews to ensure compliance with all the terms and conditions of the party's agreement with SSA, including a review of the consent forms. CPAs conduct the reviews at the requesting party's place of business to ensure the integrity of the process. In addition, SSA reserves the right to perform unannounced onsite inspections of the entire process, including review of the technical systems that maintain the data and transaction records. The respondents to the CBSV collection are the participating companies; members of the public who consent to the SSN verification; and CPAs who provide compliance review services.

Type of Request: Revision of an OMB-approved information collection.

Time Burden

Participating Companies
Requirement | Number of respondents | Frequency of response | Average burden per response (minutes) | Estimated total annual burden (hours)
Registration process for new participating companies | *13 | 1 | 120 | 26
Creation of file with SSN holder identification data; maintaining required documentation/forms | 90 | **251 | 60 | 22,590
Using the system to upload request file, check status, and download results file | 90 | 251 | 5 | 1,883
Storing Consent Forms | 90 | 251 | 60 | 22,590
Activities related to compliance review | 90 | 251 | 60 | 22,590
Total | 373 |  |  | 69,679
* One-time registration process/approximately 13 new participating companies per year.
** Please note there are 251 Federal business days per year on which a requesting party could submit a file.

Participating Companies Who Opt for External Testing Environment (ETE)
Requirement | Number of respondents | Frequency of response | Average burden per response (minutes) | Estimated total annual burden (hours)
ETE Registration Process (includes reviewing and completing ETE User Agreement) | 20 | 1 | 180 | 60
Web Service Transactions | 20 | 1 | 50 | 17
Reporting Issues Encountered on Web service testing (e.g., reports on application's reliability) | 20 | 1 | 50 | 17
Reporting changes in users' status (e.g., termination or changes in users' employment status; changes in duties of authorized users) | 20 | 1 | 60 | 20
Cancellation of Agreement | 20 | 1 | 30 | 10
Dispute Resolution | 20 | 1 | 120 | 40
Total | 120 |  |  | 164

People Whose SSNs SSA Will Verify
Requirement | Number of respondents | Frequency of response | Average burden per response (minutes) | Estimated total annual burden (hours)
Reading and signing authorization for SSA to release SSN verification | 2,800,000 | 1 | 3 | 140,000
Responding to CPA re-contact | 5,750 | 1 | 5 | 479
Total | 2,805,750 |  |  | 140,479

There is one CPA respondent conducting compliance reviews and preparing written reports of findings. The average burden per response is 4,800 minutes for a total burden of 7,200 hours annually.

Cost Burden

The public cost burden is dependent upon the number of companies and transactions. SSA based the cost estimates below upon 90 participating companies submitting a total 2.8 million transactions per year.

One-Time Per Company Registration Fee—$5,000.

Estimated Per SSN Transaction Fee—$1.40.ⁱ

ⁱ The annual costs associated with the transaction to each company are dependent upon the number of SSN transactions SSA submits by the company on a yearly basis. For example, if a company submits 1 million requests to SSA for the year, its total transaction cost for the year would be $1.40 × 1,000,000, or $1,400,000. Periodically, SSA will calculate our costs to provide CBSV services and adjust the fees as needed. SSA notifies companies in writing and via Federal Register Notice of any changes and companies have the opportunity to cancel the agreement or continue service using the new transaction fee.

Estimated Per Company Cost to Store Consent Forms—$300.

II. SSA submitted the information collections below to OMB for clearance. Your comments regarding the information collections would be most useful if OMB and SSA receive them 30 days from the date of this publication. To be sure we consider your comments, we must receive them no later than November 2, 2016. Individuals can obtain copies of the OMB clearance packages by writing to OR.Reports.Clearance@ssa.gov.

1. Request for Hearing by Administrative Law Judge—20 CFR 404.929, 404.933, 416.1429, 404.1433, 418.1350, and 42 CFR 405.722—0960-0269. When SSA denies applicants' or beneficiaries' requests for new or continuing benefits, the Social Security Act entitles those applicants or beneficiaries to request a hearing to appeal the decision. To request a hearing, individuals complete Form HA-501, the associated Modernized Claims System (MCS) or Modernized Supplemental Security Income Claims System (MSSICS) interview, or the Internet application (i501). SSA uses the information to determine if the individual: (1) Filed the request within the prescribed time; (2) is the proper party; and (3) took the steps necessary to obtain the right to a hearing. SSA also uses the information to determine: (1) The individual's reason(s) for disagreeing with SSA's prior determinations in the case; (2) if the individual has additional evidence to submit; (3) if the individual wants an oral hearing or a decision on the record; and (4) whether the individual has (or wants to appoint) a representative. The respondents are Social Security benefit applicants and recipients who want to appeal SSA's denial of their request for new or continued benefits, and Medicare Part B recipients who must pay the Medicare Part B Income-Related Monthly Adjustment Amount.

This is a correction notice: SSA published the incorrect burden information for this collection at 81 FR 47845, on 7/22/49. We are correcting this error here.

Type of Request: Revision of an OMB-approved information collection.

Modality of completion | Number of respondents | Frequency of response | Average burden per response (minutes) | Estimated total annual burden (hours)
HA-501; Modernized Claims System (MCS); Modernized Supplemental Security Income Claims System (MSSICS) | 10,953 | 1 | 10 | 1,826
I501 (Internet iAppeals) | 658,516 | 1 | 5 | 54,876
Totals | 669,469 |  |  | 56,702

2. Request for Reconsideration—20 CFR 404.907-404.921, 416.1407-416.1421, 408.1009, and 418.1325—0960-0622. Individuals use Form SSA-561-U2, the associated MCS interview, or the Internet application (i561) to initiate a request for reconsideration of a denied claim. SSA uses the information to document the request and to determine an individual's eligibility or entitlement to Social Security benefits (Title II); SSI payments (Title XVI); Special Veterans Benefits (Title VIII); Medicare (Title XVIII); and for initial determinations regarding Medicare Part B income-related premium subsidy reductions. The respondents are individuals filing for reconsideration of a denied claim.

This is a correction notice: SSA published the incorrect burden information for this collection at 81 FR 47845, on 7/22/49. We are correcting this error here.

Type of Request: Revision of an OMB-approved information collection.

Modality of completion | Number of respondents | Frequency of response | Average burden per response (minutes) | Estimated total annual burden (hours)
SSA-561 and Modernized Claims System (MCS) | 330,370 | 1 | 8 | 40,049
I561 (Internet iAppeals) | 1,161,300 | 1 | 5 | 96,775
Totals | 1,491,670 |  |  | 136,824

3. Request for Accommodation in Communication Method—0960-0777. SSA allows disabled or impaired Social Security applicants, beneficiaries, recipients, and representative payees to choose one of seven alternative methods of communication they want SSA to use when we send them benefit notices and other related communications. The seven alternative methods we offer are: (1) Standard print notice by first-class mail; (2) standard print mail with a follow-up telephone call; (3) certified mail; (4) Braille; (5) Microsoft Word file on data CD; (6) large print (18-point font); or (7) audio CD. However, respondents who want to receive notices from SSA through a communication method other than the seven methods listed above must explain their request to us. Those respondents use Form SSA-9000 to: (1) Describe the type of accommodation they want; (2) disclose their condition necessitating the need for a different type of accommodation; and (3) explain why none of the seven methods described above are sufficient for their needs. SSA uses Form SSA-9000 to determine, based on applicable law and regulation, whether to grant the respondents' requests for an accommodation based on their impairment or disability. SSA collects this information electronically through either an in-person interview or a telephone interview during which the SSA employee keys in the information on our iAccommodate Intranet screens. The respondents are disabled or impaired Social Security applicants, beneficiaries, recipients, and representative payees who ask SSA to send notices and other communications in an alternative method besides the seven modalities we currently offer.

Type of Request: Revision of an OMB-approved information collection.

Modality of completion | Number of respondents | Frequency of response | Average burden per response (minutes) | Estimated total annual burden (hours)
SSA-9000/iAccommodate | 5,000 | 1 | 20 | 1,667

Dated: September 28, 2016.
Naomi R. Sipple,
Reports Clearance Officer, Social Security Administration.

[FR Doc. 2016-23773 Filed 9-30-16; 8:45 am]

BILLING CODE 4191-02-P